DEPARTMENT OF TRANSPORTATION

Federal Aviation Administration

14 CFR Part 39

[Docket No. FAA-2017-0709; Directorate Identifier 2016-NM-200-AD]

RIN 2120-AA64

Airworthiness Directives; Airbus Airplanes

AGENCY: Federal Aviation Administration (FAA), DOT.

ACTION: Notice of proposed rulemaking (NPRM).

SUMMARY: We propose to adopt a new airworthiness directive (AD) for certain Airbus Model A318 series airplanes; Model A319 series airplanes; and Model A320-211, -212, -214, -216, -231, -232, and -233 airplanes. This proposed AD was prompted by a report indicating that the lower rib foot angle of the center wing box did not match with the bottom skin panel inner surface. This proposed AD would require repetitive inspections for cracking of the external bottom skin in certain areas on the left and right wings, and corrective actions if necessary. This proposed AD also provides an optional terminating modification for the repetitive inspections. We are proposing this AD to address the unsafe condition on these products.

DATES: We must receive comments on this proposed AD by September 8, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this NPRM, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2017-0709; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Comments Invited

We invite you to send any written relevant data, views, or arguments about this proposal. Send your comments to an address listed under the ADDRESSES section. Include “Docket No. FAA-2017-0709; Directorate Identifier 2016-NM-200-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Union, has issued EASA AD 2016-0222, dated November 7, 2016 (referred to after this as the Mandatory Continuing Airworthiness Information, or “the MCAI”), to correct an unsafe condition for certain Airbus Model A318 and A319 series airplanes; and Model A320-211, -212, -214, -216, -231, -232, and -233 airplanes. The MCAI states:

During installation in production of new wing box ribs on post-mod 39729 aeroplanes, it was discovered that the centre wing lower rib foot angle was not matching with the bottom skin panel inner surface.

This condition, if not detected and corrected, could induce fatigue cracking of the skin panel at the rib foot attachment, with possible detrimental effect on wing structural integrity.

This condition was initially addressed by Airbus on the production line through adaptation mod 152155, then through mod 152200. For affected aeroplanes in service, Airbus issued Service Bulletin (SB) A320-57-1205, providing instructions for repetitive detailed inspections (DET) or special detailed inspections (SDI), and SB A320-57-1207, providing modification instructions.

For the reasons described above, this [EASA] AD requires repetitive inspections (DET or SDI) of the wing bottom skin lower surface for crack detection and, depending on findings, the accomplishment of applicable corrective action(s). This [EASA] AD also includes reference to an optional modification (Airbus SB A320-57-1207), providing terminating action for the repetitive inspections required by this [EASA] AD.

The corrective action for cracking is to repair using a method approved by the Manager, International Branch, ANM-116, Transport Airplane Directorate, FAA; EASA; or Airbus's EASA Design Organization Approval. You may examine the MCAI in the AD docket on the Internet at http://www.regulations.gov by searching for and locating Docket No. FAA-2017-0709.

Related Service Information Under 1 CFR Part 51

Airbus has issued Service Bulletin A320-57-1205, dated May 26, 2016. This service information describes procedures for inspecting the external bottom skin for cracking in the area of the rib 2 attachment between stringer 8 and stringer 11 on both wings, and repairing any cracks.

Airbus has also issued Service Bulletin A320-57-1207, including Appendix 01 and Appendix 02, dated May 26, 2016. This service information describes procedures for inspecting the lower rib feet (rib 2) and the bottom skin upper surface on both wings for cracking, modifying the wings by installing shims between the lower rib foot (rib 2) and the bottom skin upper surface, and repairing any cracks.

This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Costs of Compliance

We estimate that this proposed AD affects 10 airplanes of U.S. registry. We estimate the following costs to comply with this proposed AD:

Estimated Costs
Action | Labor cost | Parts cost | Cost per product | Cost on U.S. operators
Inspection | 5 work-hours × $85 per hour = $425 per inspection cycle | $0 | $425 per inspection cycle | $4,250 per inspection cycle.

Estimated Costs for Optional Actions
Action | Labor cost | Parts cost | Cost per product
Modification | 32 work-hours × $85 per hour = $2,720 | $5,750 | $8,470

We have received no definitive data that would enable us to provide cost estimates for the on-condition actions specified in this proposed AD.

According to the manufacturer, some of the costs of the optional modification of this proposed AD may be covered under warranty, thereby reducing the cost impact on affected individuals. We do not control warranty coverage for affected individuals. As a result, we have included all available costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2017-0709; Directorate Identifier 2016-NM-200-AD.

(a) Comments Due Date

We must receive comments by September 8, 2017.

(b) Affected ADs

None.

(c) Applicability

This AD applies to the Airbus airplanes identified in paragraphs (c)(1), (c)(2), and (c)(3) of this AD, certificated in any category, all manufacturer serial numbers on which Airbus Modification 39729 was embodied in production, except those airplanes on which Airbus Modification 152155 or Modification 152200 was embodied in production.

(1) Airbus Model A318-111, -112, -121, and -122 airplanes.

(2) Airbus Model A319-111, -112, -113, -114, -115, -131, -132, and -133 airplanes.

(3) Airbus Model A320-211, -212, -214, -216, -231, -232, and -233 airplanes.

(d) Subject

Air Transport Association (ATA) of America Code 57, wings.

(e) Reason

This AD was prompted by a report indicating that the lower rib foot angle of the center wing box did not match with the bottom skin panel inner surface. Misalignment of the lower rib foot angle of the center wing box with the bottom skin panel inner surface could induce fatigue cracking of the skin panel at the rib foot attachment. We are issuing this AD to detect and correct cracking of the external bottom skin in the area of the rib 2 attachment of the wings, which could result in reduced structural integrity of the wing.

(f) Compliance

Comply with this AD within the compliance times specified, unless already done.

(g) Repetitive Inspections

Before exceeding the applicable compliance time specified in table 1 to paragraph (g) of this AD, or within 3 months after the effective date of this AD, whichever occurs later: Do a detailed inspection or a special detailed inspection for cracking of the external bottom skin in the area of the rib 2 attachment between stringer 8 and stringer 11 of the left and right wings, and do all applicable corrective actions, in accordance with the Accomplishment Instructions of Airbus Service Bulletin A320-57-1205, dated May 26, 2016. Do all applicable corrective actions before further flight. Repeat the inspection thereafter at the applicable intervals, based on the method used for the most recent inspection, as specified in table 2 to paragraph (g) of this AD.

Table 1 to Paragraph (g) of This AD—Initial Inspection Times
Airplane model and configuration | Compliance time—whichever occurs first since first flight of the airplane
Model A318 series airplanes; Model A319 series airplanes; and Model A320-211, -212, -214, -216, -231, -232, and -233 airplanes; pre-Airbus Modification 155374; not used as VIP or Elite | Before the accumulation of 14,500 total flight cycles or 29,000 total flight hours.
Model A318 series airplanes; Model A319 series airplanes; and Model A320-211, -212, -214, -216, -231, -232, and -233 airplanes; post-Airbus Modification 155374; not used as VIP or Elite | Before the accumulation of 13,600 total flight cycles or 27,300 total flight hours.
Model A319 series airplanes; post-Airbus Modifications 28162, 28238, and 28342; used as VIP or CJ | Before the accumulation of 7,400 total flight cycles or 32,000 total flight hours.
Model A318 series airplanes; post-Airbus Modification 39195; used as VIP or Elite | Before the accumulation of 14,500 total flight cycles or 43,500 total flight hours.

Table 2 to Paragraph (g) of This AD—Repetitive Inspection Intervals
Airplane model and configuration | Detailed inspection—whichever occurs first | Special detailed inspection—whichever occurs first
Model A318 series airplanes; Model A319 series airplanes; and Model A320-211, -212, -214, -216, -231, -232, and -233 airplanes; not used as VIP or Elite | 4,000 flight cycles or 8,000 flight hours | 5,000 flight cycles or 10,000 flight hours.
Model A319 series airplanes; post-Airbus Modifications 28162, 28238, and 28342; used as VIP or CJ | 2,000 flight cycles or 8,600 flight hours | 2,500 flight cycles or 11,000 flight hours.
Model A318 series airplanes; post-Airbus Modification 39195; used as VIP or Elite | 4,000 flight cycles or 12,000 flight hours | 5,000 flight cycles or 15,000 flight hours.

Note 1 to paragraph (g) of this AD: Airbus Modification 155374 defines the minimum airplane configuration for operation on Commonwealth of Independent States runway profiles.

(h) Terminating Action Limitation

Repair of an airplane, as required by paragraph (g) of this AD, does not constitute terminating action for the repetitive inspections required by paragraph (g) of this AD unless otherwise specified in the instructions obtained using the procedures specified in paragraph (j)(2) of this AD.

(i) Optional Terminating Action

Modification of the wings including a detailed inspection of the lower rib feet (rib 2) and bottom skin upper surface of the wings for cracking and all applicable corrective actions, in accordance with the Accomplishment Instructions of Airbus Service Bulletin A320-57-1207, including Appendix 01 and Appendix 02, dated May 26, 2016, constitutes terminating action for the repetitive inspections required by paragraph (g) of this AD for that airplane. If, during modification of an airplane as specified in this paragraph, accomplishment of any modification instruction is not possible due to configuration difficulties, accomplish the modification using the procedures specified in paragraph (j)(1) of this AD.

(j) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the manager of the International Branch, send it to the attention of the person identified in paragraph (k)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

(1) Refer to Mandatory Continuing Airworthiness Information (MCAI) EASA AD 2016-0222, dated November 7, 2016, for related information. This MCAI may be found in the AD docket on the Internet at http://www.regulations.gov by searching for and locating Docket No. FAA-2017-0709.

(2) For more information about this AD, contact Sanjay Ralhan, Aerospace Engineer, International Branch, ANM-116, Transport Airplane Directorate, FAA, 1601 Lind Avenue SW., Renton, WA 98057-3356; telephone 425-227-1405; fax 425-227-1149.

(3) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on July 14, 2017.
Dionne Palermo,
Acting Manager, Transport Airplane Directorate, Aircraft Certification Service.

[FR Doc. 2017-15481 Filed 7-24-17; 8:45 am]

BILLING CODE 4910-13-P